DEPARTMENT OF LABOR

Employment and Training Administration

[TA-W-56,598]

Electrolux Home Products Refrigeration, Division Greenville, MI; Notice of Termination of Investigation

Pursuant to section 221 of the Trade Act of 1974, as amended, an investigation was initiated on February 18, 2005 in response to a worker petition filed by a company official on behalf of workers at Electrolux Home Products, Refrigeration Division, Greenville, Michigan.

The petitioner has requested that the petition be withdrawn. Consequently, the investigation has been terminated.

Signed at Washington, DC, this 22nd day of March, 2005.
Richard Church,
Certifying Officer, Division of Trade Adjustment Assistance.

[FR Doc. E5-1445 Filed 3-31-05; 8:45 am]

BILLING CODE 4510-30-P